DEPARTMENT OF COMMERCE

Bureau of Industry and Security

Action Affecting Export Privileges; Ghashim Group, Inc. d.b.a. KZ Results; Mazen Ghashim; MNC Group International, Inc. d.b.a. Wearform, d.b.a. Sports Zone, d.b.a. Soccer Zone

In the Matter of: Ghashim Group, Inc., d.b.a. KZ Results, 3334 Walnut Bend Lane, Houston, Texas 77042 and Mazen Ghashim, 10734 Overbrook Lane, Houston, Texas 77042, Respondents, and, MNC Group International, Inc., d.b.a. Wearform, d.b.a. Sports Zone, d.b.a. Soccer Zone, 3334 Walnut Bend Lane, Houston, Texas 77042; Related Person.

Order Temporarily Denying Export Privileges

Pursuant to Section 766.24 of the Export Administration Regulations (“EAR”),¹ the Bureau of Industry and Security (“BIS”), U.S. Department of Commerce, through its Office of Export Enforcement (“OEE”), has requested that I issue an Order temporarily denying the export privileges under the EAR of: Ghashim Group, Inc. doing business as (“d.b.a.”) KZ Results, 3334 Walnut Bend Lane, Houston, Texas 77042 (“Ghashim Group”) and Mazen Ghashim, 10734 Overbrook Lane, Houston, Texas 77042 (hereinafter collectively referred to as the “Respondents”); and related person MNC Group International, Inc. d.b.a. Wearform, d.b.a. Sports Zone, and d.b.a. Soccer Zone, 3334 Walnut Bend Lane, Houston, Texas 77042 (“MNC”).

¹ The EAR, which are currently codified at 15 CFR Parts 730-774 (2004), are issued under the Export Administration Act of 1979, as amended (50 U.S.C. app. 2401-2420) (2000) (the “Act”). From August 21, 1994 through November 12, 2000, the Act was in lapse. During that period, the President, through Executive Order 12,924, which had been extended by successive Presidential Notices, the last of which was August 3, 2000 (3 CFR, 2000 Comp. 397 (2001)), continued the EAR in effect under the International Emergency Economic Powers Act (50 U.S.C. 1701-1707 (2000)) (“IEEPA”). On November 13, 2000, the Act was reauthorized and remained in effect through August 20, 2001. Since August 21, 2001, the Act has been in lapse and the President, through Executive Order 13,222 of August 17, 2001 (3 CFR, 2001 Comp. 783 (2002)), as extended by the Notice of August 6, 2004, (69 FR 48763 (August 10, 2004)), continued the Regulations in effect under the IEEPA.

In its request, BIS has presented evidence that shows that the Respondents conspired to cause items subject to the EAR to be illegally exported to Syria directly and via transshipments through the United Arab Emirates (“UAE”) with knowledge that violations of the EAR would occur, and that they took actions intended to evade the EAR.

Specifically, the evidence shows that, from January 2003 through May 2004 and in November 2004, Respondents conspired to export computers, items that are included on the Commerce Control List and controlled for national security and anti-terrorism purposes, from the United States to Syria without the required BIS export licenses. The evidence shows that, after learning of the EAR requirements governing the export of computers to Syria, Respondents developed and implemented a scheme to avoid the requirements of the EAR by causing these computers to be exported through the UAE to Syria. More specifically, between on or about February 26, 2003 and on or about December 13, 2003, Ghashim Group exported personal computers in fourteen shipments from the United States to Syria without the required BIS export licenses. The President of Ghashim Group is Mazen Ghashim.

After learning in December 2004 that shipments of computers to Syria require BIS export licenses, the Respondents began arranging shipments to Syria through the UAE. Between on or about January 7, 2004 and on or about May 21, 2004, Ghashim Group exported computers in eleven shipments from the United States to the UAE without BIS export licenses, knowing that they were destined for Syria. On or about June 16, 2004 and on or about June 22, 2004, Ghashim Group attempted to make two additional shipments through the UAE to Syria without the required BIS export licenses, but these shipments were detained by the U.S. Government.

Thereafter, the evidence shows that, in November 2004, after the May 14, 2004 implementation of the Syria Accountability and Lebanese Sovereignty Restoration Act,² Mazen Ghashim and MNC conspired to export garment samples, items that are subject to the EAR, from the United States to Syria without the required BIS export licenses. After May 14, 2004, export of all products of the United States except food and medicine to Syria was prohibited.³

² Pub. L. No. 108-175 (2003); Exec. Order 13,338 of May 11, 2004, 69 FR 26,751 (May 13, 2004); 15 CFR Supplement No. 1 to Part 736, General Order No. 2(a).

³ Id.

MNC is a Related Person pursuant to 15 CFR § 766.23 because it is owned and operated by Mazen Ghashim, who is the President of Ghashim Group. It is also operated out of the same facilities as Ghashim Group, and is therefore affiliated with Mazen Ghashim and Ghashim Group.

I find the evidence presented by BIS demonstrates that the Respondents have conspired to commit acts that violate the EAR, that such violations have been deliberate and covert, and that there is a strong likelihood of future violations, particularly given the nature of the transactions and the elaborate steps that have been taken by Respondents to avoid detection by the U.S. Government while knowing that their actions were in violation of the EAR. As such, a Temporary Denial Order (“TDO”) is needed to give notice to persons and companies in the United States and abroad and that they should cease dealing with the Respondents in export transactions involving items subject to the EAR. Such a TDO is consistent with the public interest to preclude future violations of the EAR.

Accordingly, I find that a TDO naming Ghashim Group and Mazen Ghashim as Respondents, and MNC as a Related Person is necessary, in the public interest, to prevent an imminent violation of the EAR. This Order is issued on an ex parte basis without a hearing based upon BIS's showing of an imminent violation.

It is therefore ordered:

First, that the Respondents, Ghashim Group, Inc. d.b.a. KZ Results, 3334 Walnut Bend Lane, Houston, Texas 77042, its successors or assigns, and when acting for or on behalf of Ghashim Group, Inc., its officers, representatives, agents, or employees; Mazen Ghashim, 10734 Overbrook Lane, Houston, Texas 77042, and, when acting for or on behalf of Mazen Ghashim, his representatives, agents, assigns or employees; and Related Person MNC Group International, Inc. d.b.a. Wearform, d.b.a. Sports Zone, and d.b.a. Soccer Zone, 3334 Walnut Bend Lane, Houston, Texas 77042, its successors or assigns, and when acting for or on behalf of MNC Group International, Inc., its officers, representatives, agents, or employees (collectively, the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquires or attempts to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) and Section 766.23(c) of the EAR, the Respondents and the Related Person, respectively, may, at any time, appeal this Order by filing a full written statement in support of the appeal with the Office of the Administrative Law Judge, U.S. Coast Guard ALJ Docketing Center, 40 South Gay Street, Baltimore, Maryland 21202-4022.

In accordance with the provisions of Section 766.24(d) and Section 766.23(c) of the EAR, BIS may seek renewal of this Order by filing a written request not later than 20 days before the expiration date. The Respondents and the Related Person may oppose a request to renew this Order by filing a written submission with the Assistant Secretary for Export Enforcement, which must be received not later than seven days before the expiration date of the Order.

A copy of this Order shall be served on the Respondents and the Related Person, and shall be published in the Federal Register.

This Order is effective upon date of publication in the Federal Register and shall remain in effect for 180 days.

Entered this 1st day of April, 2005.
Wendy L. Wysong,
Acting Assistant Secretary of Commerce for Export Enforcement.

[FR Doc. 05-6940 Filed 4-6-05; 8:45 am]

BILLING CODE 3510-OT-M